DEPARTMENT OF ENERGY

Federal Energy Regulatory Commission

[Project Nos. 4204-024 Project Nos. 4660-028, Project Nos. 4659-026, Arkansas]

City of Batesville, AR, Independence County, AR; Notice of Availability of Multi-Project Environmental Assessment

July 22, 2002.

In accordance with the National Environmental Policy Act of 1969 and the Federal Energy Regulatory Commission's (Commission) regulations, 18 CFR part 380 (Order No. 486, 52 FR 47897), the Office of Energy Projects has reviewed the applications for license amendments for the White River Lock and Dam No. 1 Project (P-4204-024), White River Lock and Dam No. 2 Project (P-4660-028), and White River Lock and Dam No. 3 Project (P-6059-006), located on the White River in Independence County, Arkansas, and has prepared a multi-project Environmental Assessment (EA) for the projects. There are no Federal lands or Indian reservations occupied by projects' works or located within the projects' boundaries.

The EA contains the staff's analysis of the potential environmental impacts of the amendments and concludes that issuing the amendments, with appropriate environmental protective measures, would not constitute a major federal action that would significantly affect the quality of the human environment.

A copy of the EA is on file with the Commission and is available for public inspection. The EA may also be viewed on the Web at http://www.ferc.gov using the “RIMS” link—select “Docket #” and follow the instructions (call 202-208-2222 for assistance).

Any comments should be filed within 30 days from the date of this notice and should be addressed to Magalie R. Salas, Secretary, Federal Energy Regulatory Commission, 888 First Street, NE., Washington, DC 20426. Please affix Project No. 4204-024, 4660-028 and 4659-026 to all comments. Comments may be filed electronically via the Internet in lieu of paper. See 18 CFR 385.2001(a)(1)(iii) and the instructions on the Commission's Web site under the “e-Filing” link.

For further information, contact Janet Hutzel at (202) 208-2271.

Magalie R. Salas,
Secretary.

[FR Doc. 02-18986 Filed 7-25-02; 8:45 am]

BILLING CODE 6717-01-P